DEPARTMENT OF TRANSPORTATION

Federal Highway Administration

23 CFR Part 777

[FHWA Docket No. FHWA-97-2514; 96-8]

RIN 2125-AD78

Mitigation of Impacts to Wetlands and Natural Habitat

AGENCY: Federal Highway Administration (FHWA), DOT.

ACTION: Final rule; delay of effective date.

SUMMARY: The Federal Highway Administration (FHWA) is delaying the effective date of the final rule it published on December 29, 2000 (65 FR 82913), concerning the mitigation of impacts to wetlands and natural habitat. The original effective date of this final rule was January 29, 2001. The new effective date of this rule is March 30, 2001. The delayed effective date will provide the Administration an opportunity to review this final rule.

DATES: The effective date of the rule amending 23 CFR part 777 published at 65 FR 82913, December 29, 2001, is delayed from January 29, 2001 until March 30, 2001.

FOR FURTHER INFORMATION CONTACT: Mr. Paul Garrett, Office of Natural Environment, (303) 969-5772, ext. 332, email address: paul.garrett@fhwa.dot.gov; FHWA 555 Zang Street; Lakewood, CO 80228 office hours are from 8 a.m. to 5 p.m., m.t., Monday through Friday, except Federal holidays; or Mr. Robert Black, Office of the Chief Counsel, HCC-30, (202) 366-1359, email address: robert.black@fhwa.dot.gov, 400 Seventh Street, SW., Washington, DC 20590-0001, Office hours are from 7:45 a.m. to 4:15 p.m., e.t., Monday through Friday, except Federal holidays.

SUPPLEMENTARY INFORMATION: The FHWA believes good cause exists to publish this rule delaying the effective date of the FHWA's December 29 final rule on Mitigation of Impacts to Wetlands and Natural Habitat, and making such delay effective upon publication of this rule. Because the December 29 published final rule would have gone into effect on January 29, 2001, it would be impracticable to provide prior notice and opportunity for public comment. In addition it would be contrary to the public interest to permit the rule to go into effect as previously scheduled without giving the Administration an opportunity to review the rule in accordance with the memorandum of January 20, 2001, from the Assistant to the President and Chief of Staff, entitled “Regulatory Review Plan,” published in the Federal Register on January 24, 2001.

Issued on: January 25, 2001.
Anthony R. Kane,
Executive Director.

[FR Doc. 01-2534 Filed 1-26-01; 8:45 am]

BILLING CODE 4910-22-M